DEPARTMENT OF AGRICULTURE

Motor Vehicles; FY 2004 Alternative Fuel Vehicle (AFV) Report

AGENCY: Department of Agriculture.

ACTION: Notice of Availability of USDA FY 2004 AFV Report.

SUMMARY: In accordance with the Energy Policy Act of 1992 (EPAct) (42 U.S.C. 13211-13219) as amended by the Energy Conservation Reauthorization Act of 1998 (Pub. L. 105-388), and Executive Order (EO) 13149, “Greening the Government Through Federal Fleet and Transportation Efficiency,” the Department of Agriculture's FY 2004 AFV report is available on the following Department of Agriculture Web site: http://www.usda.gov/energyandenvironment/altFuel/altFuel.htm.

FOR FURTHER INFORMATION CONTACT: James Michael, Jr., (202) 720-8616.

Dated: June 22, 2005.
W.R. Ashworth,
Director, Office of Procurement and Property Management.

[FR Doc. 05-12675 Filed 6-27-05; 8:45 am]

BILLING CODE 3410-98-M